DEPARTMENT OF ENERGY

Federal Energy Regulatory Commission

Combined Notice of Filings #1

Take notice that the Commission received the following electric corporate filings:

Docket Numbers: EC22-16-000.

Applicants: Energy Center Paxton LLC, KKR Thor Bidco, LLC.

Description: Application for Authorization Under Section 203 of the Federal Power Act of Energy Center Paxton LLC.

Filed Date: 11/15/21.

Accession Number: 20211115-5233.

Comment Date: 5 p.m. ET 12/6/21.

Take notice that the Commission received the following exempt wholesale generator filings:

Docket Numbers: EG22-23-000.

Applicants: Arlington Energy Center III, LLC.

Description: Notice of Self-Certification of Exempt Wholesale Generator Status of Arlington Energy Center III, LLC.

Filed Date: 11/16/21.

Accession Number: 20211116-5108.

Comment Date: 5 p.m. ET 12/7/21.

Take notice that the Commission received the following Complaints and Compliance filings in EL Dockets:

Docket Numbers: EL22-9-000.

Applicants: ITC Midwest LLC.

Description: Petition for Declaratory Order of ITC Midwest LLC.

Filed Date: 11/2/21.

Accession Number: 20211102-5230.

Comment Date: 5 p.m. ET 12/2/21.

Take notice that the Commission received the following electric rate filings:

Docket Numbers: ER20-1906-001.

Applicants: Story County Wind, LLC.

Description: Midcontinent Independent System Operator, Inc. submits tariff filing per 35.19a(b): Refund Report__Story County Wind, LLC to be effective N/A.

Filed Date: 11/16/21.

Accession Number: 20211116-5167.

Comment Date: 5 p.m. ET 12/7/21.

Docket Numbers: ER22-1-001.

Applicants: Alliant Energy Corporate Services, Inc.

Description: Tariff Amendment: Amendment to Schedule 2 Submission to be effective 11/30/2021.

Filed Date: 11/16/21.

Accession Number: 20211116-5101.

Comment Date: 5 p.m. ET 12/7/21.

Docket Numbers: ER22-244-000; TS22-1-000.

Applicants: Caddo Wind, LLC, Caddo Wind, LLC.

Description: Amended Request for Temporary Tariff Waiver, et al. of Caddo Wind, LLC.

Filed Date: 11/10/21.

Accession Number: 20211110-5270.

Comment Date: 5 p.m. ET 11/22/21.

Docket Numbers: ER22-355-000.

Applicants: ISO New England Inc.

Description: ISO New England Inc. Resource Termination—Killingly Energy Center.

Filed Date: 11/4/21.

Accession Number: 20211104-5202.

Comment Date: 5 p.m. ET 11/26/21.

Docket Numbers: ER22-408-000.

Applicants: Persimmon Creek Wind Farm 1, LLC.

Description: Request for Waiver and Expedited Consideration of Persimmon Creek Wind Farm 1, LLC.

Filed Date: 11/12/21.

Accession Number: 20211112-5386.

Comment Date: 5 p.m. ET 12/3/21.

Docket Numbers: ER22-413-000.

Applicants: PJM Interconnection, L.L.C.

Description: § 205(d) Rate Filing: Amendment to WMPA SA No. 5588; Queue No. AE2-114 to be effective 1/8/2020.

Filed Date: 11/16/21.

Accession Number: 20211116-5086.

Comment Date: 5 p.m. ET 12/7/21.

Docket Numbers: ER22-414-000.

Applicants: AES Marketing and Trading, LLC.

Description: Baseline eTariff Filing: AES Marketing and Trading, LLC MBR Tariff to be effective 11/17/2021.

Filed Date: 11/16/21.

Accession Number: 20211116-5140.

Comment Date: 5 p.m. ET 12/7/21.

Docket Numbers: ER22-415-000.

Applicants: Arlington Energy Center III, LLC.

Description: Baseline eTariff Filing: Arlington Energy Center III, LLC Application for Market-Based Rate Authorization to be effective 1/16/2022.

Filed Date: 11/16/21.

Accession Number: 20211116-5172.

Comment Date: 5 p.m. ET 12/7/21.

Take notice that the Commission received the following electric securities filings:

Docket Numbers: ES22-23-000.

Applicants: Basin Electric Power Cooperative.

Description: Application Under Section 204 of the Federal Power Act for Authorization to Issue Securities of Basin Electric Power Cooperative.

Filed Date: 11/16/21.

Accession Number: 20211116-5183.

Comment Date: 5 p.m. ET 12/7/21.

The filings are accessible in the Commission's eLibrary system (https://elibrary.ferc.gov/idmws/search/fercgensearch.asp) by querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: November 16, 2021.
Debbie-Anne A. Reese,
Deputy Secretary.

[FR Doc. 2021-25402 Filed 11-19-21; 8:45 am]

BILLING CODE 6717-01-P